DEPARTMENT OF JUSTICE

Antitrust Division

Notice Pursuant to the National Cooperative Research and Production Act of 1993—Maritime Sustainment and Technology Innovation Consortium

Notice is hereby given that, on January 8, 2024, pursuant to section 6(a) of the National Cooperative Research and Production Act of 1993, 15 U.S.C. 4301 et seq. (“the Act”), Maritime Sustainment and Technology Innovation Consortium (“MSTIC”) has filed written notifications simultaneously with the Attorney General and the Federal Trade Commission disclosing changes in its membership. The notifications were filed for the purpose of extending the Act's provisions limiting the recovery of antitrust plaintiffs to actual damages under specified circumstances. Specifically, 3D Systems Inc., Littleton, CO; ATI, Inc., Pittsburgh, PA; Castheon, Inc., Thousand Oaks, CA; Clear Carbon & Components, Inc., Bristol, RI; Corsha, Inc., Vienna, VA; DM3D Technology LLC, Auburn Hills, MI; DTCUBED LLC, Sewell, NJ; Ellis & Watts Global Industries, Inc., Batavia, OH; Elzly Technology Corp., Reston, VA; Exponent, Inc., Menlo Park, CA; G.S.E. Dynamics, Inc., Hauppauge, NY; L3 Technologies, Inc—L3 KEO, Northampton, MA; Milwaukee Valve Company, Inc., New Berlin, WI; Mission Focused Systems, Inc., Royersford, PA; Pacific Engineering, Inc., Roca, NE; Pioneering Decisive Solutions, Inc., California, MD; Precise Systems, Inc., Lexington Park, MD; Saab, Inc., East Syracuse, NY; Sentient Digital, Inc., New Orleans, LA; Signature Science LLC, Austin, TX; Skuld LLC, London, OH; and The Entwistle Company LLC, Hudson, MA, have been added as parties to this venture.

No other changes have been made in either the membership or planned activity of the group research project. Membership in this group research project remains open, and MSTIC intends to file additional written notifications disclosing all changes in membership.

On October 21, 2020, MSTIC filed its original notification pursuant to section 6(a) of the Act. The Department of Justice published a notice in the Federal Register pursuant to section 6(b) of the Act on November 19, 2020 (85 FR 73750).

The last notification was filed with the Department on October 6, 2023. A notice was published in the Federal Register pursuant to section 6(b) of the Act on December 15, 2023 (88 FR 86936).

Suzanne Morris,
Deputy Director Civil Enforcement Operations, Antitrust Division.

[FR Doc. 2024-05315 Filed 3-12-24; 8:45 am]

BILLING CODE 4410-11-P